FEDERAL COMMUNICATIONS COMMISSION

47 CFR Part 64

[CG Docket Nos. 11-116 and 09-158; CC Docket No. 98-170; FCC 12-42]

Empowering Consumers To Prevent and Detect Billing for Unauthorized Charges (“Cramming”); Consumer Information and Disclosure; Truth-in-Billing Format

AGENCY: Federal Communications Commission.

ACTION: Final rule; correction.

SUMMARY: In this document, the Federal Communications Commission (FCC) is correcting a final rule that appeared in the Federal Register of October 26, 2012. The document announces the effective date of rules containing information collection requirements approved by the Office of Management and Budget that were adopted to help consumers prevent and detect the placement of unauthorized charges on their telephone bills, an unlawful and fraudulent practice commonly referred to as “cramming.”

DATES: Effective October 26, 2012.

FOR FURTHER INFORMATION CONTACT: Melissa Conway, Melissa.Conway@fcc.gov or (202) 418-2887, of the Consumer and Governmental Affairs Bureau.

SUPPLEMENTARY INFORMATION: This document makes the following corrections to the final rule published October 26, 2012, at 77 FR 65320:

[Corrected]

1. On page 65320, column 2, revise the DATES section to read as follows:

DATES: The amendments to 47 CFR 64.2401(a)(3) published at 77 CFR 30915, May 24, 2012, is effective December 26, 2012. 47 CFR 64.2401(f)(1) is effective November 13, 2012, and 47 CFR 64.2401(f)(2) is effective December 26, 2012.

Federal Communications Commission.
Bulah P. Wheeler,
Associate Secretary, Office of the Secretary, Office of Managing Director.

[FR Doc. 2012-28759 Filed 11-29-12; 8:45 am]

BILLING CODE 6712-01-P